DEPARTMENT OF HEALTH AND HUMAN SERVICES

Centers for Disease Control and Prevention

Enhancement of a Continuum of HIV/AIDS Prevention, Care and Treatment Through the Network Model in the United Republic of Tanzania

Announcement Type: New.

Funding Opportunity Number: AA085.

Catalog of Federal Domestic Assistance Number: 93.067.

Key Date:

Application Deadline: September 6, 2005.

I. Funding Opportunity Description

Authority: This program is authorized under sections 301 (a) and 307 of the Public Health Service Act [42 U.S.C. 241 and 242l], as amended, and under Public Law 108-25 (United States Leadership Against HIV/AIDS, Tuberculosis and Malaria Act of 2003) [U.S.C. 7601] and Section 104 of the Foreign Assistance Act of 1961 [22 U.S.C. 2151b].

Background: The President Bush's Emergency Plan for AIDS Relief has called for immediate, comprehensive and evidence-based action to turn the tide of global HIV/AIDS.

The initiative aims to treat more than two million HIV-infected people with effective combination anti-retroviral therapy by 2008; care for ten million HIV-infected and affected persons, including those orphaned by HIV/AIDS, by 2008; and prevent seven million infections by 2010, with a focus on 15 priority countries, including 12 in sub-Saharan Africa. The five-year strategy for the Emergency Plan is available at the following Internet address: http://www.state.gov/s/gac/rl/or/c11652.htm.

Purpose: The purpose of this funding announcement is to progressively build an indigenous, sustainable response to the national HIV epidemic in Tanzania through the rapid expansion of innovative, culturally appropriate, high-quality HIV/AIDS prevention and care interventions.

Under the leadership of the U.S. Global AIDS Coordinator, as part of the President's Emergency Plan, the U.S. Department of Health and Human Services (HHS) works with host countries and other key partners to assess the needs of each country and design a customized program of assistance that fits within the host nation's strategic plan.

HHS focuses on two or three major program areas in each country. Goals and priorities include the following:

• Achieving primary prevention of HIV infection through activities such as expanding confidential counseling and testing programs, building programs to reduce mother-to-child transmission, and strengthening programs to reduce transmission via blood transfusion and medical injections.

• Improving the care and treatment of HIV/AIDS, sexually transmitted diseases (STDs) and related opportunistic infections by improving STD management; enhancing care and treatment of opportunistic infections, including tuberculosis (TB); and initiating programs to provide anti-retroviral therapy (ART).

• Strengthening the capacity of countries to collect and use surveillance data and manage national HIV/AIDS programs by expanding HIV/STD/TB surveillance programs and strengthening laboratory support for surveillance, diagnosis, treatment, disease-monitoring and HIV screening for blood safety.

This cooperative agreement will: (1) Enhance the continuum of HIV/AIDS prevention, treatment and care for people living with HIV/AIDS (PLWHA) through the network model; (2) improve Reproductive and Child Health Services (RCHS) for prevention of mother-to-child transmission (PMTCT) of HIV; (3) improve health laboratory services at point-of-service settings to support HIV prevention, treatment and care; and (4) rapidly scale up anti-retroviral therapy (ART) availability in the United Republic of Tanzania.

In Tanzania, Emergency Plan goals include: treating at least [150,000,000] HIV-infected individuals; caring for [750,000,000] HIV-affected individuals, including orphans.

Measurable outcomes of the program will be in alignment with the numerical performance goals of the President's Emergency Plan and with the following performance goal for the National Center of HIV, STD, and TB Prevention (NCHSTP) of the Centers for Disease Control and Prevention (CDC) within HHS: By 2010, work with other countries, international organizations, the U.S. Department of State, the U.S. Agency for International Development (USAID), and other partners to achieve the United Nations General Assembly Special Session on HIV/AIDS goal of reducing prevalence among young persons 15 to 24 years of age, to reduce HIV transmission, and to improve care of PLWHAs.

This announcement is only for non-research activities supported by HHS, including the Centers for Disease Control and Prevention (CDC). If an applicant proposes research activities, HHS will not review the application. For the definition of “research,” please see the HHS/CDC Web site at the following Internet address: http://www.cdc.gov/od/ads/opspoll1.htm.

Activities: The recipient of these funds is responsible for activities in multiple program areas designed to target underserved populations in Tanzania. Either the awardee will implement activities directly or will implement them through its subgrantees and/or subcontractors; the awardee will retain overall financial and programmatic management under the oversight of HHS/CDC and the strategic direction of the Office of the U.S. Global AIDS Coordinator. The awardee must show a measurable progressive reinforcement of the capacity of indigenous organizations and local communities to respond to the national HIV epidemic, as well as progress towards the sustainability of activities.

Applicants should describe activities in detail as part of a four-year action plan (U.S. Government Fiscal Years 2005-2008 inclusive) that reflects the policies and goals outlined in the five-year strategy for the President's Emergency Plan.

The awardee will produce an annual operational plan in the context of this four-year plan, which the U.S. Government Emergency Plan team on the ground in Tanzania will review as part of the annual Emergency Plan for AIDS Relief Country Operational Plan review and approval process managed by the Office of the U.S. Global AIDS Coordinator. The awardee may work on some of the activities listed below in the first year and in subsequent years, and then progressively add others from the list to achieve all of the Emergency Plan performance goals, as cited in the previous section. HHS/CDC, under the guidance of the U.S. Global AIDS Coordinator, will approve funds for activities on an annual basis, based on documented performance toward achieving Emergency Plan goals, as part of the annual Emergency Plan for AIDS Relief Country Operational Plan review and approval process.

Awardee Activities for this program are as follows:

1. Enhance the continuum of HIV/AIDS prevention,¹ treatment and care for PLWHA through the network model:

¹ Prevention interventions directed toward behavior change should promote the ABC model. Methods and strategies should emphasize abstinence for youth and other unmarried persons, mutual faithfulness and partner reduction for sexually active adults, and correct and consistent use of condoms by those populations who are engaged in high-risk behaviors. Behaviors that increase risk for HIV transmission include: engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home. Awardees may not implement condom social marketing without also implementing the abstinence and faithfulness behavior-change interventions outlined above.

a. Establish centers of excellence for provision of optimal HIV/AIDS prevention, care and treatment in zonal referral hospitals.

b. Procure the necessary staff, equipment, and supplies to establish and coordinate services of the centers of excellence.

c. Provide capacity to zonal referral hospitals to teach other facilities to provide similar services.

d. Provide capacity to zonal referral hospitals to support and help monitor HIV/AIDS prevention, care and treatment.

e. Introduce new models for confidential counseling and testing (CT), including routine or diagnostic confidential CT in tuberculosis (TB) clinics, sexually transmitted infection (STI) clinics, specialist clinics, general outpatient department and inpatient care, for identifying and referring treatment to HIV-positive individuals.

f. Develop annual plans for integrating HIV/AIDS prevention, care and treatment in district health plans.

g. In collaboration with HHS, plan, develop, conduct and evaluate HIV/AIDS training programs for physicians, nurses, and traditional birth attendants. Training must be based on national HIV/AIDS guidelines and training curriculum.

2. Improve RCHS care for PMTCT of HIV:

a. Procure the necessary staff, equipment and supplies to establish and coordinate PMTCT care at health facilities in each center catchment area.

b. Improve capacity of health facilities in the catchment area of the zonal referral hospital to deliver quality PMTCT care to pregnant women and their newborns.

c. Support integration of PMTCT care into routine reproductive and child health care.

d. Expand implementation of the PMTCT monitoring and evaluation system.

e. Provide training and human resources development for PMTCT care.

f. In collaboration with HHS and the Tanzanian Ministry of Health (MOH), plan, develop, conduct and evaluate PMTCT training programs for physicians, nurses, and traditional birth attendants. Training should be based on integration of PMTCT care into routine anti-natal clinic (ANC) care.

3. Improve health laboratory services at point-of-service settings to support HIV prevention, treatment and care:

a. Procure the necessary staff, equipment and supplies to establish and coordinate HIV/AIDS laboratory services.

b. Strengthen laboratory capacity for diagnosis of HIV infection in adults at all health facilities in the catchment area.

c. Provide access to facilities for diagnosis of HIV in infants; staging of disease to determine eligibility for initiation of anti-retroviral (ARV) therapy for PLWHA; monitoring treatment progress of patients on ARVs; and monitoring of adverse reactions to ARVs.

d. Develop and implement a plan for surveillance of drug resistance among patients on ARVs.

e. Develop a laboratory information system linked to the Tanzanian National Health Management Information System.

f. Undertake infrastructure improvements for provision of quality laboratory services.

g. Introduce a laboratory quality system approach at all regional hospitals in the catchment area.

h. Provide training and human resources development for health laboratory services.

4. Rapidly scale up ART availability:

a. Collaborate with HHS and the Tanzanian National AIDS Control Program (NACP) to assess the health facility network capacity in the catchment area for expansion of ARV therapy.

b. Assist selected health facilities to introduce and expand ARV therapy by building on established clinical programs.

c. Assist target health facilities with training, and mobilize health care personnel to provide treatment.

d. Support efforts to enhance the capacity of health facilities for supply chain management through the Tanzanian national Integrated Logistics System (ILS) to respond to rapid ARV therapy scale up.

e. Establish links with faith-based and community-based organizations for community mobilization to support ARV therapy and improve compliance among PLWHA on ARVs.

f. Work to link activities described here with related HIV care and other social services in the area, and promote coordination at all levels, including through bodies such as village, district, regional and national HIV coordination committees and networks of faith-based organizations.

g. Participate in relevant national technical coordination committees and in national process(es) to define, implement and monitor simplified small grants program(s) for faith- and community-based organizations, to ensure local stakeholders receive adequate information and assistance to engage and access effectively funding opportunities supported by the President's Emergency Plan and other donors.

h. Progressively reinforce the capacity of faith- and community-based organizations and village and district AIDS committees to promote quality, local ownership, accountability and sustainability of activities.

i. Develop and implement a project-specific participatory monitoring and evaluation plan by drawing on national and U.S. Government requirements and tools, including the strategic information guidance provided by the Office of the U.S. Global AIDS Coordinator.

Based on its competitive advantage and proven field experience, the winning applicant will undertake a broad range of activities to meet the numerical Emergency Plan targets outlined above. For each of these activities, the grantee will give priority to evidence-based, yet culturally adapted, innovative approaches.

In a cooperative agreement, HHS staff is substantially involved in the program activities, above and beyond routine grant monitoring.

HHS Activities for this program are as follows:

1. Collaborate with the Tanzania Ministry of Health and other in-country and international partners in the development of plans for program assistance based on the country needs, the Emergency Plan technical assistance portfolio, and HIV laboratory activities conducted by other partners.

2. Provide consultation, scientific and technical assistance based on the “CDC Global AIDS Program (GAP) Technical Strategies” document to promote the use of best practices.

3. Facilitate in-country planning and review meetings for the purpose of ensuring coordination of country-based program technical assistance activities. HHS will act as liaison and assist in coordinating activities as required between the applicant and other non-governmental organizations (NGOs), the Government of Tanzania, and other HHS partners.

4. Play an active role in development of curricula and training courses, including provision of technical assistance.

5. Provide technical assistance in clinical, counseling and laboratory issues, training, data management, and program monitoring and evaluation.

6. Provide technical assistance with prevention counseling and testing and data management issues. Such technical assistance may involve identification of problems and challenges and collaborative efforts to find practical solutions.

7. Work with other stakeholders to continuously evaluate curriculum and training needs; and adapt training, as necessary, to meet the program needs and cultural context in Tanzania.

8. HHS will participate in providing support and supervision to implementing partners.

9. Monitor project and budget performance to ensure satisfactory progress towards the goals of the project and the numerical goals of the President's Emergency Plan.

10. Organize an orientation meeting with the grantee to brief them on applicable U.S. Government, HHS, and Emergency Plan expectations, regulations and key management requirements, as well as report formats and contents. The orientation could include meetings with staff from HHS agencies and the Office of the U.S. Global AIDS Coordinator.

11. Review and approve grantee's annual work plan and detailed budget, as part of the Emergency Plan for AIDS Relief Country Operational Plan review and approval process, managed by the Office of the U.S. Global AIDS Coordinator.

12. Review and approve grantee's monitoring and evaluation plan, including for compliance with the strategic information guidance established by the Office of the U.S. Global AIDS Coordinator.

13. Meet on a monthly basis with grantee to assess monthly expenditures in relation to approved work plan and modify plans as necessary.

14. Meet on a quarterly basis with grantee to assess quarterly technical and financial progress reports and modify plans as necessary.

15. Meet on an annual basis with grantee to review annual progress report for each U.S. Government Fiscal Year, and to review annual work plans and budgets for subsequent year, as part of the Emergency Plan for AIDS Relief review and approval process for Country Operational Plans, managed by the Office of the U.S. Global AIDS Coordinator.

Either HHS staff or staff from organizations that have successfully competed for funding under a separate HHS contract, cooperative agreement or grant will provide technical assistance and training.

Administration: Comply with all HHS management requirements for meeting participation and progress and financial reporting for this cooperative agreement. Comply with all policy directives established by the Office of the U.S. Global AIDS Coordinator.

II. Award Information

Type of Award: Cooperative Agreement.

HHS's involvement in this program is listed in the Activities Section above.

Fiscal Year Funds: 2005.

Approximate Total Funding: $18 Million (This amount is an estimate, and is subject to availability of funds.)

Approximate Number of Awards: Five.

Approximate Average Award: $900,000 (This amount is for the first 12-month budget period, and includes direct costs.)

Floor of Award Range: $500,000.

Ceiling of Award Range: $1,500,000 (This ceiling is for the first 12-month budget period.)

Anticipated Award Date: September 15, 2005.

Budget Period Length: 12 months.

Project Period Length: Four years.

Throughout the project period, HHS's commitment to continuation of awards will be conditioned on the availability of funds, evidence of satisfactory progress by the recipient (as documented in required reports), and the determination that continued funding is in the best interest of the Federal government, through the Emergency Plan for AIDS Relief review and approval process for Country Operational Plans, managed by the Office of the U.S. Global AIDS Coordinator.

III. Eligibility Information

III.1. Eligible Applicants

This is a limited competition funding opportunity announcement. Applications will only be considered from public and faith-based hospitals or zonal referral hospitals as defined by the MOH in Tanzania mainland, or the MOH and social welfare in Zanzibar.

Eligible applicants: Must conduct a specific set of activities supportive of the HHS goals for enhancement of a continuum of HIV/AIDS prevention, care and treatment through the network model for PMTCT, introducing new models for CT, improving capacity of laboratory services and establishing centers of excellence at zonal referral hospitals in the United Republic of Tanzania; must have the legal authority, ability, and credibility among Tanzanian citizens to coordinate the implementation of zonal initiatives for HIV/AIDS prevention, treatment and care; must be able to become engaged immediately in the activities listed in this announcement; and must build upon the existing framework of health policy and programming that the MOH itself has initiated.

III.2. Cost Sharing or Matching

Matching funds are not required for this program.

III.3. Other

CDC will not accept and review applications with budgets greater than the ceiling of the award range.

Special Requirements: If your application is incomplete or non-responsive to the special requirements listed in this section, it will not enter into the review process. We will notify you that your application did not meet submission requirements.

• HHS/CDC will consider late applications non-responsive. See section “IV.3. Submission Dates and Times” for more information on deadlines.

IV. Application and Submission Information

IV.1. Address To Request Application Package

To apply for this funding opportunity use application form PHS 5161-1.

Electronic Submission: HHS strongly encourages you to submit your application electronically by using the forms and instructions posted for this announcement at http://www.grants.gov, the official Federal agency wide E-grant Web site. Only applicants who apply on-line are permitted to forego paper copy submission of all application forms.

Paper Submission: Application forms and instructions are available on the CDC Web site, at the following Internet address: http://www.cdc.gov/od/pgo/forminfo.htm.

If you do not have access to the Internet, or if you have difficulty accessing the forms on-line, you may contact the HHS/CDC Procurement and Grants Office Technical Information Management Section (PGO-TIM) staff at: 770-488-2700. We can mail application forms to you.

IV.2. Content and Form of Submission

Application: You must submit a project narrative with your application forms. You must submit the narrative in the following format:

• Maximum number of pages: 35. If your narrative exceeds the page limit, we will only review the first pages within the page limit.

• Font size: 12 point unreduced.

• Double-spaced.

• Paper size: 8.5 by 11 inches.

• Page margin size: One inch.

• Printed only on one side of page.

• Held together only by rubber bands or metal clips; not bound in any other way.

• Your application must be submitted in English.

Your narrative should address activities to be conducted over the entire project period, and must include the following items in the order listed:

• Executive Summary.

Provide a clear and concise summary of the proposed goals; major objectives and activities required for achievement of program goals; and amount of funding requested for budget year one of this cooperative agreement.

• Needs Assessment and Capacity.

Describe the documented need for the proposed activities; current activities that provide relevant experience and expertise to perform the proposed activities; and collaborative relationships with other agencies and organizations that will be involved in the proposed activities.

• Four-Year Plan.

• Describe realistic four-year goals and measurable, time-phased objectives for each proposed project; the project's contribution to the Goals and Objectives of the Emergency Plan for AIDS Relief; the major activities to achieve each objective; plans for collaboration with partners, including HHS; and the evaluation process that will be used to determine effectiveness and initiate modifications, as needed.

• Year One Operational and Evaluation Plan.

Provide specific, measurable, and time-phased year one objectives for each proposed project; the specific activities proposed to achieve the year one objectives; and a projected timetable for completion that displays dates for the accomplishment of tasks and identifies responsible parties. For each year one objective, specify how achievement will be measured and documented.

• Management and Staffing Plan.

Describe how the program will be effectively managed. Include the following:

a. Management structure, including the lines of authority and plans for fiscal control.

b. The staff positions responsible for implementation of the program.

c. Qualifications and experience of the designated staff.

• Budget and Justification.

Provide a detailed one-year budget request and line item justification that is consistent with the purpose of the program and the proposed objectives and activities. The budget and justification will not be included within the 35-page limit stated above.

You may include additional information in the application appendices. We will not count the appendices toward the narrative page limit. This additional information includes the following:

• Curricula Vitas.

• Resumes.

• Organizational Charts.

• Letters of Support.

You must have a Dun and Bradstreet Data Universal Numbering System (DUNS) number to apply for a grant or cooperative agreement from the Federal government. The DUNS number is a nine-digit identification number, which uniquely identifies business entities. Obtaining a DUNS number is easy, and there is no charge. To obtain a DUNS number, access http://www.dunandbradstreet.com or call 1-866-705-5711.

For more information, see the HHS/CDC Web site at: http://www.cdc.gov/od/pgo/funding/grantmain.htm.

If your application form does not have a DUNS number field, please write your DUNS number at the top of the first page of your application, and/or include your DUNS number in your application cover letter.

Additional requirements that could require you to submit additional documentation with your application are listed in section VI.2. “Administrative and National Policy Requirements.”

IV.3. Submission Dates and Times

Application Deadline Date: September 6, 2005.

Explanation of Deadlines: Applications must be received in the HHS/CDC Procurement and Grants Office by 4 p.m. Eastern Time on the deadline date.

You may submit your application electronically at http://www.grants.gov. We consider applications completed online through Grants.gov formally submitted when the applicant organization's Authorizing Official electronically submits the applications to http://www.grants.gov. We will consider electronic applications as having met the deadline if the applicant organization's Authorizing Official has submitted the application electronically to Grants.gov on or before the deadline date and time.

If you submit your application electronically with Grants.gov, your application will be electronically time/date stamped, which will serve as receipt of submission. You will receive an e-mail notice of receipt when HHS/CDC receives the application.

If you submit your application by the United States Postal Service or commercial delivery service, you must ensure the carrier will be able to guarantee delivery by the closing date and time. If HHS/CDC receives your submission after closing because: (1) Carrier error, when the carrier accepted the package with a guarantee for delivery by the closing date and time; or (2) significant weather delays or natural disasters, you will have the opportunity to submit documentation of the carrier's guarantee. If the documentation verifies a carrier problem, HHS/CDC will consider the submission as received by the deadline.

If you submit a hard copy application, CDC will not notify you upon receipt of your submission. If you have a question about the receipt of your LOI or application, first contact your courier. If you still have a question, contact the PGO-TIM staff at: 770-488-2700. Before calling, please wait two to three days after the submission deadline. This will allow time for us to process and log submissions.

This announcement is the definitive guide on application content, submission address, and deadline. It supersedes information provided in the application instructions. If your submission does not meet the deadline above, it will not be eligible for review, and we will discard it. We will notify you that you did not meet the submission requirements.

IV.4. Intergovernmental Review of Applications

Executive Order 12372 does not apply to this program.

IV.5. Funding Restrictions

Restrictions, which you must take into account while writing your budget, are as follows:

• Funds may not be used for research.

• Reimbursement of pre-award costs is not allowed.

• Funds may not be used for any new construction.

• Antiretroviral drugs—the purchase of ARVs, reagents, and laboratory equipment for antiretroviral treatment projects require pre-approval from CDC officials.

• Needle exchange—No funds appropriated under this solicitation shall be used to carry out any program of distributing sterile needles or syringes for the hypodermic injection of any illegal drug.

• Funds may be spent for reasonable program purposes, including personnel, travel, supplies, and services. Equipment may be purchased if deemed necessary to accomplish program objectives; however, prior approval by CDC officials must be requested in writing.

• All requests for funds contained in the budget shall be stated in U.S. dollars. Once an award is made, CDC will not compensate foreign grantees for currency exchange fluctuations through the issuance of supplemental awards.

• The costs that are generally allowable in grants to domestic organizations are allowable to foreign institutions and international organizations, with the following exception: With the exception of the American University, Beirut and the World Health Organization, Indirect Costs will not be paid (either directly or through sub-award) to organizations located outside the territorial limits of the United States or to international organizations regardless of their location.

• The applicant may contract with other organizations under this program; however, the applicant must perform a substantial portion of the activities (including program management and operations, and delivery of prevention services for which funds are required).

• You must obtain an annual audit of these CDC funds (program-specific audit) by a U.S. based audit firm with international branches and current licensure/ authority in-country, and in accordance with International Accounting Standard(s) approved in writing by CDC.

• A fiscal Recipient Capability Assessment may be required, prior to or post award, in order to review the applicant's business management and fiscal capabilities regarding the handling of U.S. Federal funds.

• Prostitution and Related Activities.

The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides.

A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization and its six Regional Offices, the International AIDS Vaccine Initiative or to any United Nations agency).

The following definition applies for purposes of this clause:

• Sex trafficking means the recruitment, harboring, transportation, provision, or obtaining of a person for the purpose of a commercial sex act. 22 U.S.C. 7102(9).

All recipients must insert provisions implementing the applicable parts of this section, “Prostitution and Related Activities,” in all subagreements under this award. These provisions must be express terms and conditions of the subagreement, must acknowledge that compliance with this section, “Prostitution and Related Activities,” is a prerequisite to receipt and expenditure of U.S. government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients that receive U.S. Government funds (“prime recipients”) in connection with this document must certify compliance prior to actual receipt of such funds in a written statement that makes reference to this document (e.g., “[Prime recipient's name] certifies compliance with the section, ‘Prostitution and Related Activities.’ ”) addressed to the agency's grants officer. Such certifications by prime recipients are prerequisites to the payment of any U.S. Government funds in connection with this document.

Recipients' compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event HHS determines the recipient has not complied with this section, “Prostitution and Related Activities.”

Guidance for completing your budget can be found on the CDC Web site, at the following Internet address: http://www.cdc.gov/od/pgo/funding/budgetguide.htm.

IV.6. Other Submission Requirements

Application Submission Address: Electronic Submission: HHS/CDC strongly encourages applicants to submit electronically at: http://www.grants.gov. You will be able to download a copy of the application package from http://www.grants.gov, complete it offline, and then upload and submit the application via the Grants.gov site. We will not accept e-mail submissions. If you are having technical difficulties in Grants.gov, you can reach customer support by e-mail at http://www.grants.gov/CustomerSupport, or by phone at 1-800-518-4726 (1-800-GRANTS). The Customer Support Center is open from 7 a.m. to 9 p.m. Eastern Time, Monday through Friday.

HHS/CDC recommends that you submit your application to Grants.gov early enough to resolve any unanticipated difficulties prior to the deadline. You may also submit a back-up paper submission of your application. We must receive any such paper submission in accordance with the requirements for timely submission detailed in Section IV.3. of the grant announcement. You must clearly mark the paper submission: “BACK-UP FOR ELECTRONIC SUBMISSION.”

The paper submission must conform to all requirements for non-electronic submissions. If we receive both electronic and back-up paper submissions by the deadline, we will consider the electronic version the official submission.

We strongly recommend that you submit your grant application by using Microsoft Office products (e.g., Microsoft Word, Microsoft Excel, etc.). If you do not have access to Microsoft Office products, you may submit a PDF file. You can find directions for creating PDF files on the Grants.gov Web site. Use of file formats other than Microsoft Office or PDF could make your file unreadable for our staff; or

Paper Submission: Submit the original and two hard copies of your application by mail or express delivery service to the following address: Technical Information Management—AA085, CDC Procurement and Grants Office, U.S. Department of Health and Human Services, 2920 Brandywine Road, Atlanta, GA 30341.

V. Application Review Information

V.1. Criteria

Applicants must provide measures of effectiveness that will demonstrate the accomplishment of the various identified objectives of the cooperative agreement. Measures of effectiveness must relate to the performance goals stated in the “Purpose” section of this announcement. Measures must be objective and quantitative, and must measure the intended outcome. Applicants must submit these measures of effectiveness with the application and they will be an element of evaluation.

We will evaluate your application against the following criteria:

1. Technical Approach (25 points).

Does the applicant's proposal include an overall design strategy, including measurable time lines? Does the proposal address regular monitoring and evaluation, and the potential effectiveness of the proposed activities in meeting the objectives? Is the plan appropriate to the social, political and cultural context in Tanzania?

2. Understanding of the Problem (20 points).

Does the applicant demonstrate a clear and concise understanding of the nature of the problem described in the Purpose section of this announcement? Does the proposal specifically include a description of the public health importance of the planned activities to be undertaken, and a realistic presentation of proposed objectives and projects? Does the applicant display knowledge of the five-year strategy and goals of the President's Emergency Plan, such that it can build on these to develop a comprehensive, collaborative project to reach underserved populations? Does the applicant describe strategies that are pertinent and match those identified in the five-year strategy of the President's Emergency Plan and the National HIV/AIDS plan of the Government of the United Republic of Tanzania, and describe activities that are evidence-based, realistic, achievable, measurable and culturally appropriate in Tanzania?

3. Ability To Carry Out the Project (20 points).

Does the applicant document a demonstrated capability to achieve the purpose of the project?

4. Personnel (20 points).

Are the professional personnel involved in this project qualified, including evidence of experience in working with HIV/AIDS, opportunistic infections, and HIV/STD surveillance?

5. Plans for Administration and Management of Projects (15 points).

Is there a plan to manage the resources of the program, prepare reports, monitor and evaluate activities and audit expenditures? Are there adequate plans for administering the project?

6. Budget (not scored).

Is the itemized budget for conducting the project, along with justification, reasonable and consistent with the five-year strategy and goals of the President's Emergency Plan and Emergency Plan activities in Tanzania and the national Tanzanian HIV/AIDS strategy?

V.2. Review and Selection Process

The HHS/CDC Procurement and Grants Office (PGO) staff will review applications for completeness, and HHS Global AIDS program will review them for responsiveness. Incomplete applications and applications that are non-responsive to the eligibility criteria will not advance through the review process. Applicants will receive notification that their application did not meet submission requirements.

An objective review panel will evaluate complete and responsive applications according to the criteria listed in the “V.1. Criteria” section above. All persons who serve on the panel will be external to the U.S. Government Country Program Office. The panel may include both Federal and non-Federal participants.

Applications will be funded in order by score and rank determined by the review panel. HHS/CDC will provide justification for any decision to fund out of rank order.

V.3. Anticipated Award Date

September 15, 2005.

VI. Award Administration Information

VI.1. Award Notices

Successful applicants will receive a Notice of Award (NoA) from the HHS/CDC Procurement and Grants Office. The NoA shall be the only binding, authorizing document between the recipient and HHS/CDC. An authorized Grants Management Officer will sign the NoA, and mail it to the recipient fiscal officer identified in the application.

Unsuccessful applicants will receive notification of the results of the application review by mail.

VI.2. Administrative and National Policy Requirements—45 CFR Part 74 and Part 92

For more information on the Code of Federal Regulations, see the National Archives and Records Administration at the following Internet address: http://www.access.gpo.gov/nara/cfr/cfr-table-search.html.

The following additional requirements apply to this project:

• AR-4 HIV/AIDS Confidentiality Provisions.

• AR-6 Patient Care.

• AR-8 Public Health System Reporting Requirements.

• AR-12 Lobbying Restrictions.

• AR-14 Accounting System Requirements.

Applicants can find additional information on these requirements can be found on the CDC Web site at the following Internet address: http://www.cdc.gov/od/pgo/funding/ARs.htm.

You need to include an additional Certifications form from the PHS 5161-1 application needs to be included in your Grants.gov electronic submission only. Refer to http://www.cdc.gov/od/pgo/funding/PHS5161-1-Certificates.pdf. Once the form is filled out, attach it to your Grants.gov submission as Other Attachment Forms.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness, including progress against the numerical goals of the President's Emergency Plan for AIDS Relief for Tanzania.

f. Additional Requested Information.

2. Annual progress report and financial status report, due 60 days after the end of the budget period. Reports should include progress against the numerical goals of the President's Emergency Plan for AIDS Relief for Tanzania.

3. Financial status report, due no more than 90 days after the end of the budget period.

4. Final financial and performance reports, no more than 90 days after the end of the project period.

Recipients must mail these reports to the Grants Management Specialist listed in the “Agency Contacts” section of this announcement.

VII. Agency Contacts

We encourage inquiries concerning this announcement. For general questions, contact: Technical Information Management Section, CDC Procurement and Grants Office, U.S. Department of Health and Human Services, 2920 Brandywine Road, Atlanta, GA 30341, Telephone: 770-488-2700.

For program technical assistance, contact: Cecil Threat, Project Officer, Global AIDS Program, c/o American Embassy, 2140 Dar es Salaam Place, Washington, DC 20521-2140. Telephone: 255 22 212 1407. Cell: 255 744 222986. Fax: 255 22 212 1462. e-mail: Cthreat@cdc.gov.

For financial, grants management, or budget assistance, contact: Diane Flournoy, Grants Management Specialist, CDC Procurement and Grants Office, U.S. Department of Health and Human Services, 2920 Brandywine Road, Atlanta, GA 30341. Telephone: 770-488-2072. E-mail: dflournoy@cdc.gov.

VIII. Other Information

Applicants can find this and other CDC funding opportunity announcements on the CDC Web site, Internet address: http://www.cdc.gov. (Click on “Funding” then “Grants and Cooperative Agreements”), and on the Web site of the HHS Office of Global Health Affairs, Internet address: http://www.globalhealth.gov.

Dated: August 4, 2005.
William P. Nichols,
Director, Procurement and Grants Office, Centers for Disease Control and Prevention.

[FR Doc. 05-15890 Filed 8-10-05; 8:45 am]

BILLING CODE 4163-18-P